DEPARTMENT OF ENERGY

Federal Energy Regulatory Commission

[Project Nos. 2348-038; 2373-011; 2446-050]

Midwest Hydro, LLC, STS Hydropower, Ltd.; Notice of Application Accepted for Filing, Soliciting Comments, Protests and Motions To Intervene

Take notice that the following hydroelectric application has been filed with the Commission and is available for public inspection:

a. Type of Proceeding: Extension of License Term.

b. Project Nos.: P-2348-038, P-2373-011, and P-2446-050.

c. Date Filed: June 27, 2018.

d. Licensees: Midwest Hydro, LLC and STS Hydropower, Ltd.

e. Names and Locations of Projects: Beloit Hydroelectric Project No. 2348, located on the Rock River, in Rock County, Wisconsin. Rockton Hydroelectric Project No. 2373, located on the Rock River, in Winnebago County, Illinois. Dixon Hydroelectric Project No. 2446, located on the Rock River, in Lee County, Illinois.

f. Filed Pursuant to: Federal Power Act, 16 U.S.C. 791a-825r.

g. Licensee Contact Information: Mr. Michael Scarzello, Regulatory Director, Eagle Creek Renewable Energy, 116 North State Street, P.O. Box 167, Neshkoro, Wisconsin 54960-0167, Phone: (973) 998-8400, Email: Michael.Scarzello@eaglecreekre.com.

h. FERC Contact: Mr. Ashish Desai, (202) 502-8370, Ashish.Desai@ferc.gov.

i. Deadline for filing comments, motions to intervene and protests, is 30 days from the issuance date of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket numbers P-2348-038, P-2373-011, and P-2446-050.

j. Description of Proceeding: Midwest Hydro, LLC, licensee for the Beloit and Rockton projects, and STS Hydropower, Ltd., licensee for the Dixon Project request that the Commission extend the term of the licenses to synchronize license expiration with the nearby Central Project No. 2347, also located on the Rock River, in Rock County Wisconsin and licensed to Midwest Hydro, LLC. The license for the Central Project expires on August 31, 2024 and the licensees request eight-month extensions for the Dixon and Rockton projects, currently set to expire on December 31, 2023, and a three-month extension of the license term for the Beloit Project, which expires on May 31, 2024. The licensees requests the license term extensions to coordinate and streamline relicensing efforts for the four projects and perform a more comprehensive analysis of the resources involved.

k. This notice is available for review and reproduction at the Commission in the Public Reference Room, Room 2A, 888 First Street NE, Washington, DC 20426. The filing may also be viewed on the Commission's website at http://www.ferc.gov/docs-filing/elibrary.asp. Enter the Docket number (P-2348-038, P-2373-011, or P-2446-050) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Individuals desiring to be included on the Commission's mailing list should so indicate by writing to the Secretary of the Commission.

m. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the license term extension requests. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 31, 2018.
Nathaniel J. Davis, Sr.,
Deputy Secretary.

[FR Doc. 2018-19407 Filed 9-6-18; 8:45 am]

BILLING CODE 6717-01-P